DEPARTMENT OF HEALTH AND HUMAN SERVICES

Centers for Medicare & Medicaid Services

[Document Identifier: CMS-372(S), CMS-2746, CMS-10190, CMS-10183, CMS-2744, CMS-10194, and CMS-10184]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Annual Report on Home and Community-Based Services Waivers and Supporting Regulations in 42 CFR 440.180 and 441.300-310; Use: States with an approved waiver under section 1915(c) of the Act are required to submit a report annually in order for CMS to: (1) Verify that State assurances regarding waiver cost-neutrality are met; and (2) determine the waiver's impact on the type, amount, and cost of services provided under the State Plan and health and welfare of recipients. Form Number: CMS-372(S) (OMB#: 0938-0272); Frequency: Annually; Affected Public: State, Local or Tribal Government; Number of Respondents: 50; Total Annual Responses: 287; Total Annual Hours: 21,525.

2. Type of Information Collection Request: Extension of a currently approved collection; Title of Information Collection: End Stage Renal Disease Death Notification Public Law 95-292; 42 CFR 405.2133, 45 CFR 5-5b; 20 CFR parts 401 and 422E; Use: The ESRD Death Notification (CMS-2746) is completed by all Medicare-approved ESRD facilities upon the death of an ESRD patient. Its primary purpose is to collect fact of death and cause of death of ESRD patients. Certain other identifying information (e.g., name, Medicare claim number, and date of birth) is required for matching purposes. Federal regulations require that the ESRD Networks examine the mortality rates of every Medicare-approved facility within its area of responsibility. The Death Form provides the necessary data to assist the ESRD Networks in making decisions that result in improved patient care and in cost-effective distribution of ESRD resources. The data is used by the ESRD Networks to verify facility deaths and to monitor facility performance. Form Number: CMS-2746 (OMB#: 0938-0448); Frequency: On occasion, weekly; Affected Public: Business or other for-profit, Not-for-profit institutions, Federal government; Number of Respondents: 4,719; Total Annual Responses: 75,504; Total Annual Hours: 37,752.

3. Type of Information Collection Request: Extension of a currently approved collection; Title of Information Collection: State Plan Preprints to Implement Sections of the Deficit Reduction Act (DRA) of 2006; Use: This information collection is requested in order that States can submit State Plan preprints to CMS for review and approval to implement the Medicaid program. The DRA provides States with the flexibility to request through the use of State Plan preprints changes in benefit packages, cost sharing, non-emergency medical transportation services, etc. CMS will send State Medicaid Director letters and State Plan preprints to States in an effort to request these changes, if they so choose, and to make the process as simple as possible.; Form Number: CMS-10190 (OMB#: 0938-0993); Frequency: Other: One-time; Affected Public: State, Local or Tribal Government; Number of Respondents: 56; Total Annual Responses: 56; Total Annual Hours: 56.

4. Type of Information Collection Request: New Collection; Title of Information Collection: National Evaluation of the Demonstration to Improve the Direct Service Community Workforce; Use: The purpose of this research is to perform a national evaluation of the impact of ten demonstration grants awarded by CMS. These demonstration grants support various interventions to improve the recruitment and retention of direct service workers. The data will permit the national evaluation to compare and contrast the processes and outcomes of the ten demonstration projects. The evaluation will provide an understanding of which types of interventions are most likely to be effective under a range of circumstances. The data collections consist of six components. From participating sites this will include: 200 agencies, 4,000 direct service workers, and 4,000 consumers. From control sites this will include 50 agencies, 1,333 direct service workers, and 1,333 consumers. All data will be collected using mail surveys; Form Number: CMS-10183 (OMB#: 0938-NEW); Frequency: Other: One-time; Affected Public: Individuals or Households, Business or other for-profit, and Not-for-profit institutions; Number of Respondents: 10,916; Total Annual Responses: 10,916; Total Annual Hours: 10,916.

5. Type of Information Collection Request: Extension of a currently approved collection; Title of Information Collection: End Stage Renal Disease Medical Information ESRD Facility Survey; Use: The ESRD Facility Survey is completed by all Medicare-approved ESRD facilities once a year. The survey was designed to collect information concerning treatment trends, utilization of services and patterns of practice in treating ESRD patients. The aggregate patient information is collected from each Medicare-approved provider of dialysis and kidney transplant services. The information is used to assess and evaluate the local, regional and national levels of medical and social impact of ESRD care and are used extensively by researchers and suppliers of services for trend analysis. The information is available on the CMS Dialysis Facility Compare website and will enable patients to make informed decisions about their care by comparing dialysis facilities in their area. The ESRD Facility Survey Public Use File is also posted at: http://www.cms.hhs.gov/ESRDGeneralInformation/02_Data.asp#TopOfPage ; Form Number: CMS-2744 (OMB#: 0938-0447); Frequency: Reporting—Annually; Affected Public: Business or other for-profit, Not-for-profit institutions; Number of Respondents: 4,800; Total Annual Responses: 4,800; Total Annual Hours: 38,400.

6. Type of Information Collection Request: New collection; Title of Information Collection: Mail Survey of Medicare Advantage Special Needs Plans (SNPs)/Focus Groups with Enrollees of Medicare Advantage SNPs; Use: CMS is conducting an evaluation of Medicare Advantage Special Needs Plans (SNPs), which includes developing profiles of all SNPs that describe the structure and operation of these plans. A one-time short mail questionnaire will gather information about SNPs that is not available from other sources, such as reason for becoming a SNP, and information on care coordination. One-time 90-minute focus groups conducted during site visits to 15 SNPs will provide information on beneficiary experiences in SNPs, including decision to enroll and use of special services.; Form Number: CMS-10194 (OMB#: 0938-NEW); Frequency: Reporting—One-time; Affected Public: Business or other for-profit, Not-for-profit institutions; Number of Respondents: 350; Total Annual Responses: 350; Total Annual Hours: 395.

7. Type of Information Collection Request: New collection; Title of Information Collection: Payment Error Rate Measurement of Eligibility in Medicaid and the State Children's Health Insurance Program (SCHIP); Use: The Improper Payments Information Act (IPIA) of 2002 requires CMS to produce national error rates for Medicaid and the State Children's Health Insurance Program (SCHIP). To comply with the IPIA, CMS will use a national contracting strategy to produce error rates for Medicaid and SCHIP fee-for-service and managed care improper payments. The Federal contractor will review states on a rotational basis so that each state will be measured for improper payments, in each program, once and only once every three years.

As outlined in the October 5, 2005, interim final rule (70 FR 58260), CMS convened an eligibility workgroup comprised of the Department of Health and Human Services, the Office of Management and Budget (OMB) and representatives from two states. The Office of Inspector General (OIG) participated in an advisory capacity. The workgroup was charged to make recommendations for measuring Medicaid and SCHIP improper payments based on eligibility errors within the confines of current statute, with minimal impact on states' resources and considering public comments on the August 27, 2004, proposed rule and the October 5, 2005, interim final rule. Based on the eligibility workgroup's recommendations and public comments, we developed an eligibility review methodology that we expect will provide consistency in the reviews of active (i.e., beneficiaries receiving Medicaid or SCHIP) and negative cases (i.e., beneficiaries whose benefits were denied or terminated) as well as achieve the confidence and precision requirements at the national level required by the IPIA.; Form Number: CMS-10184 (OMB#: 0938-NEW); Frequency: Reporting—On occasion and Monthly; Affected Public: Business or other for-profit, Not-for-profit institutions; Number of Respondents: 34; Total Annual Responses: 715; Total Annual Hours: 448,120.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on July 25, 2006.

CMS, Office of Strategic Operations and Regulatory Affairs, Division of Regulations Development—A, Attention: Melissa Musotto, Room C4-26-05, 7500 Security Boulevard, Baltimore, Maryland 21244-1850.

Dated: May 18, 2006.
Michelle Shortt,
Director, Regulations Development Group, Office of Strategic Operations and Regulatory Affairs.

[FR Doc. E6-7933 Filed 5-25-06; 8:45 am]

BILLING CODE 4120-01-P